DEPARTMENT OF DEFENSE

Department of the Air Force

[23-RI-L-04]

Notice of Intent To Grant an Exclusive Patent License

AGENCY: Department of the Air Force, Department of Defense.

ACTION: Notice of intent.

SUMMARY: Pursuant to the Bayh-Dole Act and implementing regulations, the Department of the Air Force hereby gives notice of its intent to grant an exclusive patent license to Datalytica, LLC. duly organized, validly existing, and in good standing in the State of Delaware having a place of business at 8823 Boulder Hill, Laurel, MD 20723.

DATES: Written objections must be filed no later than fifteen (15) calendar days after the date of publication of this notice.

ADDRESSES: Submit written objections to Stephen Colenzo, AFRL/RI, 525 Brooks Road, Rome, New York 13441; or email: stephen.colenzo@us.af.mil. Include Docket No. 23-RI-L-04 in the subject line of the message.

FOR FURTHER INFORMATION CONTACT: Stephen Colenzo, AFRL/RI, 525 Brooks Road, Rome, New York 13441; or email: stephen.colenzo@us.af.mil; Office: 315-330-7665.

SUPPLEMENTARY INFORMATION:

Abstract of Patent Application(s)

Method and apparatus for object or event of interest detection which minimizes the level of false alarms and maximizes the level of detections as defined on a per event or object basis by the analyst. The invention allows for the minimization of false alarms for objects or events of interest which have a close resemblance to all other objects or events mapped to the same multidimensional feature space, and allows for the per event or per object adjustment on false alarms for objects or events of higher interest.

Intellectual Property

—BLOWERS ET AL, U.S. Patent No. 8,732,100, issued on 20 May 2014, and entitled “Method and Apparatus for Event Detection Permitting per Event Adjustment of False Alarm Rate.”

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Authority: 35 U.S.C. 209; 37 CFR 404.

Tommy W. Lee,
Acting Air Force Federal Register Liaison Officer.

[FR Doc. 2023-12654 Filed 6-13-23; 8:45 am]

BILLING CODE 5001-10-P